DEPARTMENT OF ENERGY

Federal Energy Regulatory Commission

[Docket No. ER01-1207-000, et al.]

West Texas Utilities Company, et al.; Electric Rate and Corporate Regulation Filings

February 14, 2001.

Take notice that the following filings have been made with the Commission:

1. West Texas Utilities Company

[Docket No. ER01-1207-000]

Take notice that on February 9, 2001, West Texas Utilities Company (WTU), tendered for filing a letter agreement, dated February 7, 2001, amending the Control Area Services Agreement Among West Texas Utilities Company and Rayburn Country Electric Cooperative, Inc. (Rayburn) and LG&E Power Marketing, Inc. (the CAS Agreement). Concurrently, WTU filed notices of cancellation for both the CAS Agreement and for the Denison Dam Pooling Agreement between Tex-La Electric Cooperative of Texas, Inc. (“Tex-La”), Rayburn and WTU.

WTU seeks an effective date of March 1, 2001 for the Amendment to the CAS Agreement, and, accordingly, requests waiver of the Commission's notice requirements. WTU seeks an effective date of June 1, 2001 for the two Notices of Cancellation. Copies of the filing have been served on Rayburn, LG&E Power Marketing, Inc., Tex-La and the Public Utility Commission of Texas.

Comment date: March 2, 2001, in accordance with Standard Paragraph E at the end of this notice.

2. Commonwealth Edison Company

[Docket No. ER01-1209-000]

Take notice that on February 9, 2001, Commonwealth Edison Company (ComEd), tendered for filing two Firm Point-to-Point Transmission Service Agreements with Wisconsin Public Service Corporation (WPS) under the terms of ComEd's Open Access Transmission Tariff.

ComEd has also mailed a copy of this filing to WPS.

Comment date: March 2, 2001, in accordance with Standard Paragraph E at the end of this notice.

3. Cordova Energy Company, LLC

[Docket No. ER01-1210-000]

Take notice that on February 9, 2001, Cordova Energy Company, LLC (Cordova), tendered for filing an amendment to an existing agreement under which Cordova will sell non-firm energy to MidAmerican Energy Company during the start-up and testing phase of the Cordova project.

Cordova requests an effective date on March 1, 2001.

Cordova states that it has served a copy of the filing on the Illinois Commerce Commission, the Iowa Utilities Board, and the South Dakota Public Utilities Commission.

Comment date: March 2, 2001, in accordance with Standard Paragraph E at the end of this notice.

4. Tampa Electric Company

[Docket No. ER01-1211-000]

Take notice that on February 9, 2001, Tampa Electric Company (Tampa Electric), tendered for filing a service agreement with Aquila Energy Marketing Corporation (Aquila) under Tampa Electric's market-based sales tariff.

Tampa Electric proposes that the service agreement be made effective on January 12, 2001, and gives notice of its termination as of February 1, 2001.

Copies of the filing have been served on Aquila and the Florida Public Service Commission.

Comment date: March 2, 2001, in accordance with Standard Paragraph E at the end of this notice.

5. Arizona Public Service Company

[Docket No. ER01-1212-000]

Take notice that on February 9, 2001, Arizona Public Service Company (APS), tendered for filing a revised Contract Demand Exhibit for Southern California Edison (SCE) applicable under the APS-FERC Rate Schedule No. 120.

Copies of this filing have been served on SCE, the California Public Utilities Commission and the Arizona Corporation Commission.

Comment date: March 2, 2001, in accordance with Standard Paragraph E at the end of this notice.

6. The Detroit Edison Company and Consumers Energy Company

[Docket No. ER01-1222-000]

Take notice that on February 12, 2001, The Detroit Edison Company (Detroit Edison) and Consumers Energy Company (Consumers), tendered for filing a Notice of Cancellation of the Electric Coordination Agreement between Consumers Energy Company (Consumers) and The Detroit Edison Company, jointly designated at Detroit Edison Rate Schedule No. 22 and Consumers Rate Schedule No. 41.

Detroit Edison and Consumers cancel the Electric Coordination Agreement in its entirety as it originally was filed and as it since has been amended, including all supplements thereto, effective March 31, 2001.

Comment date: March 2, 2001, in accordance with Standard Paragraph E at the end of this notice.

7. Southern Company Services, Inc.

[Docket No. ER01-1206-000]

Take notice that on February 9, 2001, Southern Company Services, Inc. (SCS), acting on behalf of Alabama Power Company, Georgia Power Company, Gulf Power Company, Mississippi Power Company, and Savannah Electric and Power Company (collectively referred to as Southern Companies), tendered for filing Amendment No. 1 to the Agreement for Network Integration Transmission Service for Tennessee Valley Authority under Southern Companies Open Access Transmission Tariff to Add a Delivery Point. The Amendment No. 1 provides that transmission service under the referenced service agreement Service Agreement No. 160 under Southern Companies Open Access Transmission Tariff (FERC Electric Tariff Original Volume No. 5) (Tariff) ¹ is to be provided at one (1) new delivery point and specifies the direct assignment facility charge.

¹ SCS has filed to amend the Tariff in Docket No. ER01-668-000. If that amendment is accepted for filing, the Tariff's rate schedule designation will be FERC Electronic Tariff Fourth Revised Volume No. 5.

Comment date: March 2, 2001, in accordance with Standard Paragraph E at the end of this notice.

8. New York Independent System Operator, Inc.

[Docket No. ER01-1213-000]

Take notice that on February 9, 2001 the New York Independent System Operator, Inc. (NYISO), tendered for filing proposed revisions to Sections 5.9-5.16 of its Market Administration and Control Area Services Tariff.

The NYISO requests an effective date of 60 days after the date of this filing (April 10, 2001).

Copies of this filing were served upon all persons who have signed the NYISO Market Administration and Control Area Services Tariff.

Comment date: March 2, 2001, in accordance with Standard Paragraph E at the end of this notice.

9. Indiana Michigan Power Company

[Docket No. EC01-67-000]

Take notice that on February 12, 2001, Indiana Michigan Power Company (I&M), a wholly-owned subsidiary of American Electric Power, Inc., a public utility holding company filed with the Federal Energy Regulatory Commission an application pursuant to section 203 of the Federal Power Act for authorization of a disposition of jurisdictional facilities to Wabash Valley Power Association (WVPA). I&M has agreed to sell to WVPA for $550,000 approximately 15 miles of 34.5 kV transmission lines used to deliver power primarily to WVPA member Midwest Energy Cooperative (formerly Fruit Belt Electric Cooperative).

Copies of I&M's filing were served upon WVPA and the public service commissions of Indiana and Michigan.

Comment date: March 5, 2001, in accordance with Standard Paragraph E at the end of this notice.

10. Georgia Power Company and Southern Power Company

[Docket No. EC01-68-000]

Take notice that on February 12, 2001, Georgia Power Company and Southern Power Company tendered for filing with the Federal Energy Regulatory Commission (Commission) an Application pursuant to section 203 of the Federal Power Act for authorization of a disposition of jurisdictional facilities necessary to effect the transfer and assignment of certain contracts and rate schedules owned by Georgia Power Company to its corporate affiliate Southern Power Company.

Comment date: March 5, 2001, in accordance with Standard Paragraph E at the end of this notice.

11. High Desert Power Trust

[Docket No. EG01-129-000]

Take notice that on February 12, 2001, High Desert Power Trust (Trust) with its principal place of business at BNY Western Trust, 700 South Flower Street, Suite 200, Los Angeles, CA 90017 filed with the Federal Energy Regulatory Commission an application for determination of exempt wholesale generator status pursuant to Part 365 of the Commission's regulations.

Trust proposes to own a natural gas-fueled combined cycle generating facility with a transmission line and related transmission equipment up to the point of interconnection with the electric transmission provider in San Bernardino County, California (Facility). The approximate net power production of the Facility will be 750 MW. Trust will lease the Facility to High Desert Power Project, LLC (High Desert). The Facility is expected to commence commercial operation in 2003. All output from the Facility will be sold by High Desert exclusively at wholesale.

Comment date: March 7, 2001, in accordance with Standard Paragraph E at the end of this notice. The Commission will limit its consideration of comments to those that concern the adequacy or accuracy of the application.

12. Harquahala Generating Trust of Delaware, Ltd.

[Docket No. EG01-130-000]

Take notice that on February 13, 2001, Harquahala Generating Trust of Delaware, Ltd. (Trust), a limited liability company with its principal place of business at 1100 North Market Street, Wilmington, DE 19801, filed with the Federal Energy Regulatory Commission an application for determination of exempt wholesale generator status pursuant to Part 365 of the Commission's regulations.

The Trust proposes to own a natural gas-fired, combined cycle power plant of approximately 1050 MW capacity in Maricopa County, Arizona. The Trust will lease the facility to Harquahala Generating Company, LLC (Harquahala). The proposed power plant is expected to commence commercial operation in 2003. All output from the plant will be sold exclusively at wholesale by Harquahala.

Comment date: March 7, 2001, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-4238 Filed 2-20-01; 8:45 am]

BILLING CODE 6717-01-P